DEPARTMENT OF TRANSPORTATION

Surface Transportation Board

[STB Finance Docket No. 33901]

Hi-Tech Trans, LLC—Operation Exemption—Over Lines Owned Canadian Pacific Railway and Connecting Carriers

Hi-Tech Trans, LLC (HTT), a noncarrier, has filed a notice of exemption under 49 CFR 1150.31 to commence operations over approximately 641 miles of rail line from Oak Island Yard in Newark, NJ to points in Irwin, Buffalo and Niagara, NY, and Lowellville and or Canton. OH.¹ The specific route has not been established because HTT asserts that the route may be changed in the future to afford more efficient service. HTT certifies that its projected revenues will not exceed those that would qualify it as a Class III railroad.

¹ HTT states that it expects to enter into sub-lease or trackage rights agreements with the Canadian Pacific Railway and its affiliates and will arrange connections with the Finger Lakes Railroad, Norfolk Southern Railway Company, and CSX Corporation.

HTT states that operations will not commence until it reaches lease or trackage rights agreements with other railroads. HTT further states that it expects that those agreements can be finalized by August 1, 2000 and that it can commence operations before January 1, 2001.

If the notice contains false or misleading information, the exemption is void ab initio. Petitions to revoke the exemption under 49 U.S.C. 10502(d) may be filed at any time. The filing of a petition to revoke will not automatically stay the transaction.²

² On July 6, 2000, a petition for stay of the exemption filed by HTT was filed by Samuel J. Nasca, on behalf of the United Transportation Union—New York Legislative Board. The petition for stay was denied by the Board in Hi-Tech Trans, LLC—Operation Exemption—Over Lines Owned By Canadian Pacific Railway and Connecting Carriers, STB Finance Docket No. 33901 (STB served July 10, 2000).

An original and 10 copies of all pleadings, referring to STB Finance Docket No. 33901, must be filed with the Surface Transportation Board, Office of the Secretary, Case Control Unit, 1925 K Street, NW., Washington, DC 20423-0001. In addition, one copy of each pleading must be served on John F. McHugh, McHugh & Barnes, P.C., 20 Exchange Place, New York, NY 10005.

Board decisions and notices are available on our website at “WWW.STB.DOT.GOV.”

Decided: July 13, 2000.
By the Board, Joseph H. Dettmar, Acting Director, Office of Proceedings.
Vernon A. Williams,
Secretary.

[FR Doc. 00-18263 Filed 7-18-00; 8:45 am]

BILLING CODE 4945-00-P